DEPARTMENT OF COMMERCE

National Oceanic and Atmospheric Administration

[Docket No. 0612242720-9794-03]

RIN 0648-ZB55

Availability of Pacific Coastal Salmon Recovery Funds for Fiscal Year 2009; Amendment

AGENCY: Fisheries Northwest Region Program Office (NWRO), National Marine Fisheries Service (NMFS), National Oceanic and Atmospheric Administration (NOAA), Commerce.

ACTION: Notice of funding availability; amended solicitation.

SUMMARY: NOAA publishes this notice to amend the Federal Funding Opportunity (NMFS-NWRO-2009-2001656) entitled “Pacific Coastal Salmon Recovery Fund 2009” which was originally announced in the Federal Register on Friday, January 2, 2009. This notice announces changes to the eligibility criteria, program priorities, funding amount, and application deadline for proposals to implement the requirements of the Omnibus Appropriations Act, 2009.

DATES: Final applications should be submitted via www.grants.gov and must be received no later than 11:59 p.m. PST on May 20, 2009. No facsimile or electronic mail applications will be accepted. Paper applications must be postmarked by May 20, 2009. Any application transmitted or postmarked, as the case may be, after the deadline will be considered non-responsive and will not be considered for funding in this competition.

Applications submitted through www.grants.gov will have a date and time indication on them. Hard copy applications will be date and time stamped when they are received. PLEASE NOTE: It may take www.grants.gov up to two (2) business days to validate or reject the application. Please keep this in mind in developing your submission timeline.

ADDRESSES: All application materials can be found at the Grants.gov portal at http://www.grants.gov. If an applicant does not have internet access, applications can be received from the following address: Nicolle Hill, NMFS Northwest Region Building #1, 7600 Sand Point Way, Seattle, WA 98115. NMFS' internet website at http://www.nwr.noaa.gov contains additional information on the Pacific Coastal Salmon Recovery Fund (PCSRF).

FOR FURTHER INFORMATION CONTACT: For further information on PCSRF, please contact Barry Thom, NMFS Northwest Region Acting Regional Administrator, at (503) 231-6266. Questions regarding this announcement should be directed to Nicolle Hill, NMFS Northwest Region, PCSRF Federal Program Officer, at (206) 526-4358 or Nicolle.Hill@noaa.gov

SUPPLEMENTARY INFORMATION: The National Oceanic and Atmospheric Administration (NOAA), National Marine Fisheries Service (NMFS), announces that it is amending the solicitation for PCSRF published on January 2, 2009 (74 FR 72), to indicate that the program supports the restoration of Pacific salmon populations, as authorized in 16 U.S.C. 3645 (d)(2) and the Omnibus Appropriations Act, 2009 (the Act), Public Law No. 111-8 (March 11, 2009). In light of the new program objectives and increased appropriations implemented though the Act, the program announces that the total amount available for awards is up to $80,000,000 through fiscal year (FY) 2009. In addition, pursuant to the Act, the State of Nevada is added as an eligible entity for projects under the program. Due to the amendments to the program, the deadline for applications has been extended until May 20, 2009.

Under this amended solicitation, NMFS allows for modifications to applications originally received under the initial announcement, and allows new applications for projects from individual eligible Indian Tribes, eligible states, and representative Tribal commissions. Any proposal that was submitted to the initial solicitation within the initial deadline is not required to be resubmitted to be considered under this amendment. However, this amendment may impact the content of proposals submitted by applicants in response to the initial announcement. Any revisions to such proposals must be submitted by the new deadline in order for the revised changes to be considered under this amended solicitation. An applicant may only submit one application to the Federal government for program funding. Application submissions, requesting any funding from both the representative Commission and a Tribe represented by that Commission will not be accepted.

The following sections of the Federal Funding Opportunity have been amended to reflect the changes announced in this notice: “Dates,” “Funding Opportunity Description,” “Award Information,” “Eligibility Information,” “Application Review Information,” and “Application and Submission Information.” All other requirements and information remain unchanged.

Electronic Access

The full text of the full funding opportunity announcement for this program can be accessed via the Grants.gov web site at http://www.grants.gov. The announcement will also be available by contacting the program officials identified under FOR FUTHER INFORMATION CONTACT. Applicants must comply with all requirements contained in the full funding opportunity announcement.

Statutory Authority

This program is administered under the authority of 16 U.S.C. 3645 (d)(2) and Public Law No. 111-8 (March 11, 2009).

Funding Availability

Up to $80,000,000 is available for FY 2009 projects. There are no restrictions on minimum funding request, but there is a limit of $30,000,000, on a maximum amount requested by any recipient. Award periods may be up to a maximum of 5 years.

Eligibility

Eligible state applicants are the States of Alaska, Washington, Oregon, Idaho, Nevada and California. Eligible tribal applicants are any federally recognized Pacific Coastal or Columbia River tribes.

Limitation of Liability

Funding for this program is limited to that provided within the FY 2009 appropriation. In no event will NOAA or the Department of Commerce be responsible for proposal preparation costs if this program fails to receive funding or is cancelled because of other agency priorities. Publication of this announcement does not oblige NOAA to award any specific project or to obligate any available funds. Recipients and subrecipients are subject to all Federal laws and agency policies, regulations and procedures applicable to Federal financial assistance awards.

Universal Identifier

Applicants should be aware that, they are required to provide a Dun and Bradstreet Data Universal Numbering System (DUNS) number during the application process. See 67 FR 66177, October 30, 2002, for additional information. Organizations can receive a DUNS number at no cost by calling the dedicated toll-free DUNS number request line at 1-866-705-5711 or via the internet at http://frwebgate.access.gpo.gov/cgi-bin/leaving.cgi?from=leavingFR.html&log=linklogamp;to=http://www.dunandbradstreet.com.

National Environmental Policy Act (NEPA)

NEPA and the Council on Environmental Quality (CEQ) implementing regulations (40 CFR parts 1500 through 1508) require that an environmental analysis be completed for all major Federal actions significantly affecting the environment. NEPA applies to the actions of Federal agencies and may include a Federal agency's decision to fund non-Federal projects under grants and cooperative agreements. Detailed information on NOAA compliance with NEPA can be found at the following NOAA NEPA website: http://nepa.noaa.gov/, including our NOAA Administrative Order 216-6 for NEPA, http://www.nepa.noaa.gov/NAO216_6_TOC.ped and CEQ implementation regulations, http://ceq.eh.doe.gov/nepa/regs/ceq/toc_ceq.htm. Consequently, as part of all project application packages, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). Program applications should, to the best extent, provide what they know about their projects at the time of submitting their grant applications. In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements contained in the Federal Register notice of February 11, 2008 (73 FR 7686), are applicable to this solicitation.

Paperwork Reduction Act

This collection of information contains requirements subject to the Paperwork Reduction Act (PRA). The use of Standard Forms, 424, 424A, 424B and SF-LLL and CD-346 has been approved by the Office of Management and Budget (OMB) under the respective control numbers 0348-0043, 0348-0044, 0348-0040, 0348-0046 and 0605-0001. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. et seq.) are inapplicable. Therefore, a regulatory flexibility analysis is not required and has not been prepared.

Dated: April 29, 2009.
Barry Thom,
Acting Regional Administrator, NMFS Northwest Region.

[FR Doc. E9-10341 Filed 5-4-09; 8:45 am]

BILLING CODE 3510-22-S